NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995. This is the second notice for public comment; the first was published in the Federal Register, and one comment was received. NSF is forwarding the proposed submission to the Office of Management and Budget (OMB) for clearance simultaneously with the publication of this second notice. The full submission may be found at: http://www.reginfo.gov/public/do/PRAMain.

DATES: Comments regarding this information collection are best assured of having their full effect if received by June 19, 2019.

FOR FURTHER INFORMATION CONTACT: Office of Information and Regulatory Affairs of OMB, Attention: Desk Officer for National Science Foundation, 725 17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission(s) may be obtained by calling 703-292-7556.

SUPPLEMENTARY INFORMATION: NSF may not conduct or sponsor a collection of information unless (a) the collection of information displays a currently valid OMB control number and (b) the agency informs potential respondents that they are not required to respond unless the information collection displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Supplementary Information

Title of Collection: Generic Clearance of the National Center for Science and Engineering Statistics Improvement Projects.

OMB Control Number: 3145-0174.

Type of Request: Intent to seek approval to extend, with revisions, an information collection for three years.

Abstract: Established within the National Science Foundation by the America COMPETES Reauthorization Act of 2010 § 505, codified in the National Science Foundation Act of 1950, as amended, the National Center for Science and Engineering Statistics (NCSES)—one of 13 principal federal statistical agencies—serves as a central Federal clearinghouse for the collection, interpretation, analysis, and dissemination of objective data on science, engineering, technology, research and development for use by practitioners, researchers, policymakers, and the public. NCSES conducts about a dozen nationally-representative surveys to obtain the data for these purposes. The Generic Clearance will be used to ensure that the highest quality data are obtained from these surveys. State of the art methodology will be used to develop, evaluate, and test questionnaires and survey concepts as well as to improve survey and statistical methodology. This may include field or pilot tests of questions for future large scale surveys, as needed. The Generic Clearance will also be used to test and evaluate data dissemination tools and methods, in an effort to improve access for data users.

Use of the Information: The purpose of these studies is to use the latest and most appropriate methodology to improve NCSES surveys, evaluate new data collection efforts, and evaluate data dissemination tools and mechanisms. Methodological findings may be presented externally. Improved NCSES surveys, data collections, and data dissemination will help policymakers in decisions on research and development funding, graduate education, and the scientific and engineering workforce, as well as contributing to reduced survey costs.

Expected Respondents: The respondents will be from industry, academia, nonprofit organizations, members of the public, and State, local, and Federal governments. Respondents will be either individuals or institutions, depending on the topic under investigation. NCSES expects to use both qualitative and quantitative procedures, in various modes (e.g., in-person, telephone, web). Up to 7,595 respondents will be contacted across all projects. No respondent will be contacted more than twice in one year under this generic clearance. Every effort will be made to use technology to limit the burden on respondents from small entities.

Estimate of Burden: NCSES estimates that a total reporting and recordkeeping burden of 15,610 hours will result from activities to improve its surveys. The calculation is shown in Table 1.

Table 1—Potential Surveys for Improvement Projects, With the Number of Respondents and Burden Hours
| Number of respondents | Number of hours
Early Career Doctorate Survey | 500 | 500
Survey of Earned Doctorates | 1,200 | 600
Other surveys of the science and engineering workforce | 1,600 | 450
Higher Education Research & Development Survey | 300 | 500
Federally-Funded Research & Development Centers (FFRDC) Survey | 60 | 120
Federal Labs Survey (possible future survey) | 275 | 525
State Government Research & Development Survey | 150 | 225
Survey of Nonprofit Research Activities | 225 | 550
Business Research & Development Survey | 50 | 150
Annual Business Survey | 300 | 450
Survey of Scientific & Engineering Facilities | 300 | 300
Public Understanding of Science & Engineering Survey | 550 | 125
Data dissemination tools and mechanisms | 100 | 100
Other surveys and projects not specified | 10,000 | 3,000
Total | 15,610 | 7,595

Comments: On March 12, 2019 we published in the Federal Register (84 FR 10842) a 60-day notice of our intent to request reinstatement of this information collection authority from OMB. In that notice, we solicited public comments for 60 days ending May 13, 2019. One comment was received, which came from Paul Clark via the web on April 19, 2019. Mr. Clark's comment consisted of a paper concerning access to engineering education and accreditation, especially for minorities and working-class adults. We respond to Mr. Clark's comment below.

Response: NSF believes that the comment does not pertain to the collection of information under the generic clearance, which is focused on survey improvement activities. Therefore, NSF is proceeding with the clearance request.

Dated: May 7, 2019.
Suzanne H. Plimpton,
Reports Clearance Officer, National Science Foundation.

[FR Doc. 2019-10450 Filed 5-17-19; 8:45 am]

BILLING CODE 7555-01-P